DEPARTMENT OF TRANSPORTATION

Surface Transportation Board

[STB Finance Docket No. 34124]

Livonia, Avon & Lakeville Railroad Corporation—Continuance in Control Exemption—B&H Rail Corp.

AGENCY: Surface Transportation Board.

ACTION: Notice of exemption.

SUMMARY: Under 49 U.S.C. 10502, the Board exempts from the prior approval requirements of 49 U.S.C. 11323-25 the control by Livonia, Avon & Lakeville Railroad Corporation, a Class III rail common carrier, of B&H Rail Corp. (B&H), upon B&H's becoming a rail carrier pursuant to a related transaction in STB Finance Docket No. 34123.¹

¹ On October 26, 2001, B&H filed a notice of exemption under the Board's class exemption procedures at 49 CFR 1150.31. The notice covered the acquisition and operation of two rail lines in Steuben County, NY. See B&H Rail Corp.—Lease and Operation Exemption—Livonia, Avon & Lakeville Railroad Corporation and Norfolk Southern Railway Company, STB Finance Docket No. 34123 (STB served Nov. 13, 2001).

DATES: This exemption is effective on January 11, 2002. Petitions to stay must be filed by December 27, 2001. Petitions to reopen must be filed by January 7, 2002.

ADDRESSES: An original and 10 copies of all pleadings referring to STB Finance Docket No. 34124 must be filed with the Surface Transportation Board, Office of the Secretary, Case Control Unit, 1925 K Street, NW., Washington, DC 20423-0001. In addition, a copy of all pleadings must be served on petitioner's representative Kevin M. Sheys, Esq., Kirkpatrick & Lockhart LLP, 1800 Massachussets Avenue, NW., Second Floor, Washington, DC 20036.

FOR FURTHER INFORMATION CONTACT: Joseph H. Dettmar, (202) 565-1600. [TDD for the hearing impaired: 1 (800) 877-8339.]

SUPPLEMENTARY INFORMATION: Additional information is contained in the Board's decision. To purchase a copy of the full decision, write to, call, or pick up in person from: Dā 2 Dā Legal, Suite 405, 1925 K Street, NW., Washington, DC 20006. Telephone: (202) 293-7776. [Assistance for the hearing impaired is available through TDD services 1 (800) 877-8339.]

Board decisions and notices are available on our website at www.stb.dot.gov.

Decided: December 5, 2001.
By the Board, Chairman Morgan, Vice Chairman Clyburn, and Commissioner Burkes.
Vernon A. Williams,
Secretary.

[FR Doc. 01-30735 Filed 12-11-01; 8:45 am]

BILLING CODE 4915-00-P